DEPARTMENT OF HOMELAND SECURITY

Coast Guard

DEPARTMENT OF TRANSPORTATION

[USCG-2006-24685]

Long Range Aids to Navigation (LORAN) Program; Office of Navigation and Spectrum Management

AGENCY: Coast Guard, DHS, Office of the Secretary, DOT.

ACTION: Notice; request for public comments.

SUMMARY: The Department of Transportation in coordination with the Department of Homeland Security is considering the need to continue to operate or invest in the North American LORAN-C Radionavigation System beyond fiscal year 2007. Future investment decisions might include: Decommissioning the LORAN-C system, maintaining the LORAN-C system as currently configured, or developing a fully deployed Enhanced LORAN (eLORAN) system. Contributing factors to these decisions are (1) whether the Global Positioning System (GPS) and other available back-up systems are adequate for the public's navigation and timing needs, thus making the LORAN-C system redundant, and (2) whether the eLORAN investments made to date provide enhancements that now merit consideration as a complementary capability to GPS, and not merely as a GPS back-up. The Department of Transportation and the Department of Homeland Security seek public input on the various decisions currently under consideration. For more information on LORAN, you may visit http://www.navcen.uscg.gov.

DATES: Comments and related material must reach the Docket Management Facility on or before February 7, 2007.

ADDRESSES: You may submit comments identified by Coast Guard docket number USCG-2006-24685 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call Mr. Greg Wheeler, Department of Transportation, Office of Navigation and Spectrum Policy, 202-366-4894, e-mail Greg.Wheeler@dot.gov or LT Michael Herring, Project Officer, Office of Navigation Systems, Coast Guard, telephone 202-372-1561, e-mail Michael.L.Herring@uscg.mil. If you have questions on viewing or submitting material to the docket, call Renee V. Wright, Program Manager, Docket Operations, telephone 202-493-0402.

You may obtain a copy of this notice by calling the U.S. Coast Guard Infoline at 1-800-368-5647 or read it on the Internet on the Coast Guard Navigation Center Web site at http://www.navcen.uscg.gov or at http://dms.dot.gov.

SUPPLEMENTARY INFORMATION:

Request for Comments

All comments received will be posted, without change, to http://dms.dot.gov and will include any personal information you have provided. Please see DOT's “Privacy Act” paragraph below.

Submitting comments: If you submit a comment, please include your name and address, identify the docket number for this notice (USCG-2006-24685) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

The North American LORAN-C system is a low frequency hyperbolic radionavigation system. It is approved for use in the U.S. Coastal Confluence Zone (CCZ) and as a supplemental air navigation aid. More information about LORAN-C is available at: http://www.navcen.uscg.gov/loran/default.htm.

While the current LORAN-C system is based on technology developed in the 1960's, a portion of the stations have been updated to allow for an enhanced signal (Enhanced LORAN) once the entire system is upgraded. More information about Enhanced LORAN (eLORAN) is available at: http://www.navcen.uscg.gov/loran/9th-pulse-modulation-ldc.html. Although eLORAN would improve both the accuracy and reliability of LORAN transmissions, and provide a precise timing service, further capital investment would be required before such a system would be fully operational.

The Department of Transportation and the Department of Homeland Security are evaluating: (1) Decommissioning the LORAN system, (2) maintaining the system as currently configured, and (3) whether further investment in modernizing and improving LORAN is in the public interest.

Next Steps for this Project

At this time, the Department of Transportation and the Department of Homeland Security seek public input on the various decisions currently under consideration, namely (1) the extent to which the current LORAN-C in its current form is used for positioning, navigation and timing, and (2) the extent to which eLORAN would be applied to these same practices as either a complementary service or as a backup to GPS. After considering all comments, the Department of Transportation and the Department of Homeland Security will inform the public of the agreed course of action with respect to future investment in LORAN.

Dated: December 22, 2006.
Robert Zitz,
Deputy Under Secretary for Preparedness, Department of Homeland Security.
Jeffrey N. Shane,
Under Secretary for Policy, Department of Transportation.

[FR Doc. E6-22421 Filed 1-5-07; 8:45 am]

BILLING CODE 4910-15-P